DEPARTMENT OF ENERGY

Federal Energy Regulatory Commission

[Docket No. RP00-331-001]

Algonquin Gas Transmission Company; Notice of Compliance Filing

August 8, 2001.

Take notice that on August 3, 2001, Algonquin Gas Transmission Company (Algonquin) tendered for filing pro forma tariff sheets in compliance with Order No. 637 et seq. and in conformance with order of the Commission issued in the captioned docket on June 13, 2001.

Algonquin states that the purpose of this filing is to comply with the requirement of Order No. 637 et seq. to file pro forma tariff sheets for the purpose of implementing certain tariff changes relating to scheduling procedures, capacity segmentation, imbalance management, and penalties, or to explain why the Order No. 637 requirements do not apply to the pipeline's tariff and operating practices and with the Commission's June 13, 2001 order to refile, as appropriate, Order No. 637 pro forma tariff sheets.

Algonquin states that copies of its filing have been mailed to all affected customers and interested state commissions.

Pursuant to customer requests and the procedures established by the Commission for Order No. 637 compliance filings, interested parties will have thirty days within which to submit comments regarding this filing. Algonquin has 20 days to respond to any comments received in response to this filing. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary,

[FR Doc. 01-20342 Filed 8-13-01; 8:45 am]

BILLING CODE 6717-01-P